DEPARTMENT OF ENERGY

Federal Energy Regulatory Commission

[Project No. 2310-193]

Pacific Gas and Electric Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2310-193.

c. Date filed: April 12, 2011.

d. Applicant: Pacific Gas and Electric Company.

e. Name of Project: Drum-Spaulding Hydroelectric Project.

f. Location: The existing Drum-Spaulding Project is located on the west slope of the Sierra Nevada on the South Yuba River, Bear River, North Fork of the North Fork American River, and tributaries in the Sacramento River watershed in Nevada and Placer Counties, California. The project would affect 1,129 acres of federal lands managed by the U.S. Forest Service (Tahoe National Forest), 5.6 acres managed by the Bureau of Land Management, and 5.3 acres managed by the Bureau of Reclamation.

g. Filed Pursuant to: Federal Power Act 16 U.S.C. 791(a)-825(r).

h. Applicant Contact: Steve Peirano, Relicensing Project Manager, Pacific Gas and Electric Company, P.O. Box 770000, San Francisco, CA 94177-0001, (415) 973-4481, or email slp2@pge.com.

i. FERC Contact: Alan Mitchnick, (202) 502-6074 or alan.mitchnick@ferc.gov.

j. Deadline for filing motions to intervene and protests, comments, recommendations, preliminary terms and conditions, and preliminary prescriptions: April 30, 2012; reply comments are due no later than June 13, 2012.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The project consists of 10 developments: Spaulding No. 3; Spaulding No. 1 and No. 2; Drum No. 1 and No. 2; Dutch Flat No. 1; Halsey; Wise; Newcastle; Deer Creek; Alta; and Wise No. 2. In the 10 developments, there are 29 reservoirs with a combined gross storage capacity of 154,388 acre-feet of water; 6 major water conduits; 12 powerhouses with a combined authorized installed capacity of 192.5 megawatts; 7 transmission lines; and appurtenant facilities and structures, including recreation facilities.

m. A copy of the application is available for review at the Commission in the Public Reference Room or may be viewed on the Commission's Web site at http://www.ferc.gov using the “eLibrary” link. Enter the docket number excluding the last three digits (P-2310) in the docket number field to access the document. For assistance, contact FERC Online Support. A copy is also available for inspection and reproduction at the address in item h above.

Register online at http://www.ferc.gov/docs-filing/esubscription.asp to be notified via email of new filings and issuances related to this or other pending projects.

For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Date
Filing of recommendations, preliminary terms and conditions, and preliminary fishway prescriptions | April 30, 2012.
Commission issues Draft Environmental Impact Statement (EIS) | December 26, 2012.
Comments on Draft EIS | February 24, 2013.
Modified Terms and Conditions | April 25, 2013.
Commission Issues Final EIS | July 24, 2013.

p. Final amendments to the application must be filed with the Commission no later than 60 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: January 19, 2012.
Kimberly D. Bose,
Secretary .

[FR Doc. 2012-1469 Filed 1-24-12; 8:45 am]

BILLING CODE 6717-01-P